DEPARTMENT OF COMMERCE

National Oceanic and Atmospheric Administration

[I.D. 022807C]

Magnuson-Stevens Act Provisions; General Provisions for Domestic Fisheries; Application for Exempted Fishing Permit

AGENCY: National Marine Fisheries Service (NMFS), National Oceanic and Atmospheric Administration (NOAA), Commerce

ACTION: Notice; request for comments.

SUMMARY: The Assistant Regional Administrator for Sustainable Fisheries, Northeast Region, NMFS (Assistant Regional Administrator) has made a preliminary determination that the subject Exempted Fishing Permit (EFP) application from the University of New Hampshire (UNH) for an exemption from Gulf of Maine (GOM) Rolling Closure Areas III and IV requirements of the Northeast (NE) Multispecies Fishery Management Plan (FMP), for the purpose of designing and testing a raised footrope haddock trawl, contains all of the required information and warrants further consideration. The EFP is intended to facilitate research that would lead to the development of a viable alternative to traditional fishing gear for landing haddock, while minimizing the impact on species of concern and other bycatch. The Assistant Regional Administrator has also made a preliminary determination that the activities authorized under the EFP would be consistent with the goals and objectives of the FMP. However, further review and consultation may be necessary before a final determination is made to issue the EFP. Therefore, NMFS announces that the Assistant Regional Administrator proposes to issue an EFP that would allow vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before April 12, 2007.

ADDRESSES: Comments on this notice may be submitted by e-mail. The mailbox address for providing e-mail comments is DA7012@noaa.gov. Include in the subject line of the e-mail comment the following document identifier: “Comments on UNH Raised Footrope Trawl (DA7-012).” Written comments should be sent to Patricia A. Kurkul, Regional Administrator, NMFS, Northeast Regional Office, 1 Blackburn Drive, Gloucester, MA 01930. Mark the outside of the envelope “Comments on UNH Raised Footrope Trawl (DA7-012).” Comments may also be sent via facsimile (fax) to (978) 281-9135.

FOR FURTHER INFORMATION CONTACT: Moira Kelly, Fishery Management Specialist, phone: 978-281-9218, fax: 978-281-9135.

SUPPLEMENTARY INFORMATION: A complete application for an EFP was submitted on January 5, 2007, by Dr. Pingguo He of the University of New Hampshire (UNH). This project is funded by the Northeast Consortium.

The project would be used to study the effectiveness of a raised footrope trawl in retaining haddock while excluding Atlantic cod and flounders, and comparing catch composition to a standard groundfish trawl. The intent is for this project to take place between May and June 2007, in GOM Rolling Closure Areas III and IV, when the researcher believes that the best mix of haddock, Atlantic cod, and flounders would be present. As a result, UNH has requested an exemption from the requirements of the GOM Rolling Closure Areas III and IV which would otherwise be closed. Undersized, or otherwise protected fish, would not be retained or landed. Legal sized fish would be landed and sold under a normal NE multispecies day-at-sea and other applicable regulations. The researcher anticipates that the overall fishing mortality of the experimental trawl would be approximately 30 percent of an average commercial fishing trawl.

Two vessels, working with UNH, would be involved in this research. The vessels would make alternating tows consisting of towing the raised footrope trawl and subsequently towing the same trawl with the footrope tied down to the sweep, as is standard practice. The researcher estimates that the two vessels would perform two 1-hour tows with the standard net and two 1-hour tows with the experimental net, daily, over 25 fishing days, for a project total of 50 standard tows and 50 experimental tows. Overall, the total expected catch from both the experimental and commercial trawls would be:

SPECIES | CATCH (LB) | CATCH (KG)
Atlantic Cod | 5,000 | 2,268
Atlantic Haddock | 10,000 | 4,563
American Plaice | 2,500 | 1,134
Yellowtail Flounder | 250 | 113
Winter Flounder | 500 | 227
Witch Flounder | 1,250 | 567
Hake | 500 | 227
Pollock | 10,000 | 4,563

The applicant may place requests for minor modifications and extensions to the EFP throughout the year. EFP modifications and extensions may be granted without further notice if they are deemed essential to facilitate completion of the proposed research and result in only a minimal change in the scope or impact of the initially approved EFP request.

In accordance with NOAA Administrative Order 216-6, a Categorical Exclusion or other appropriate NEPA document would be completed prior to the issuance of the EFP. Further review and consultation may be necessary before a final determination is made to issue the EFP. After publication of this document in the Federal Register, the EFP, if approved, may become effective following the public comment period.

Authority: 16 U.S.C. 1801 et seq.

Dated: March 7, 2007.
James P. Burgess,
Acting Director, Office of Sustainable Fisheries, National Marine Fisheries Service.

[FR Doc. E7-4464 Filed 3-12-07; 8:45 am]

BILLING CODE 3510-22-S